DEPARTMENT OF COMMERCE

National Oceanic and Atmospheric Administration

RIN 0648-XA745

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Thursday, October 20, 2011 at 9:30 a.m.

ADDRESSES: The meeting will be held at the Sheraton Harborside Hotel, 250 Market Street, Portsmouth, NH 03801; telephone: (603) 431-2300; fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the agenda are:

The Committee and Advisory Panel will review gear stowage regulations. There will be a request for comments on vessel and gear marking. There will be an open comment period for the fishing industry, concerning Compliance and Effectiveness of Regulations for New England Fishery Management Plans. The Committee and Panel will comment on draft NOAA Enforcement Priority Setting Process. Some of the actions that the Committee and Panel may be asked to review are: Scallop management measures (Framework 24 and Amendment 16); Herring Amendment 5 management measures-preliminary review; Hake (Whiting) incidental possession limits when Total Allowable Landings are reached; Skate species identification at sea and at the dock. They also plan to schedule meetings for next year. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: September 28, 2011.
Tracey L. Thompson,
Acting Director, Office of Sustainable Fisheries, National Marine Fisheries Service.

[FR Doc. 2011-25419 Filed 10-3-11; 8:45 am]

BILLING CODE 3510-22-P